DEPARTMENT OF EDUCATION

Office of Vocational and Adult Education; Overview Information; Ready for College: Adult Education Transitions Program Notice Inviting Applications for New Awards for Fiscal Year (FY) 2006

Catalog of Federal Domestic Assistance (CFDA) Number: 84.191A.

Dates:

Applications Available: July 27, 2007.

Deadline for Notice of Intent to Apply: August 6, 2007.

Deadline for Transmittal of Applications: August 27, 2007.

Deadline for Intergovernmental Review: August 27, 2007.

Full Text of Announcement

I. Funding Opportunity Description

Purpose of the Program: Section 243 of the Adult Education and Family Literacy Act (Act), 20 U.S.C. 9253, authorizes the Secretary to establish and carry out a program of national leadership activities to enhance the quality of adult education and literacy programs nationwide. Under the authority of that section of the Act, the Secretary plans to support State and local efforts to increase the rate at which adults, aged 18 to 24, successfully complete adult secondary education (ASE) and transition to postsecondary education.

Background Information

The President's American Competitiveness Initiative (ACI) recognizes that a high school diploma or equivalency diploma is no longer adequate for 21st century workforce demands and that the bedrock of America's competitiveness is a well-educated and skilled workforce. Some form of postsecondary education and training is now critical for workers to succeed in the new global economy. Yet, in 2004, one in five 18- to 24-year-olds had not yet completed high school. While about half of the students who leave school early eventually obtain a credential, millions never receive one. Further, an estimated 3.8 million youth between the ages of 18 and 24 are neither employed nor in school. Young adults with low levels of literacy and educational attainment also have a lower chance of escaping unemployment. And those who do become employed are often limited to low-wage jobs. For America to continue to prosper economically, educators and others need to focus on ways to help more out-of-school youth obtain high school-level equivalency diplomas and transition successfully to postsecondary education.

Many State and local agencies have developed a variety of interventions designed to re-engage out-of-school youth and help them obtain both a high school equivalency credential and a postsecondary certificate or degree. While the Department is generally aware of these efforts, there is little documentation of either their specific composition or their effectiveness. More importantly, little investigation has been conducted on why a particular practice has positive results with out-of-school youth. We are, therefore, using this competition to support projects that will identify and, when necessary, further develop, strengthen, enhance, or expand educational strategies (e.g., program design elements such as scheduling, educational counseling, supportive services for students, and professional development for staff; enhanced curricula; or linkages with postsecondary education programs) already utilized in local ASE programs. Because we want to begin documenting the specific composition of the educational strategies, the projects funded under this competition will also help local programs to establish procedures for demonstrating, documenting, and gathering data on the effectiveness of their educational strategies. This data will also help us better understand why the educational strategies facilitate the transition of out-of-school youth to postsecondary education. Further, descriptions of the educational practices demonstrated to be effective by the projects will be packaged for national dissemination.

This competition is the first of several activities the Department anticipates supporting to assist States in improving the quality of ASE and building capacity to increase the rate of out-of-school youth successfully transitioning to postsecondary education. By identifying and documenting existing effective educational practices of State and local agencies, we will be better able to (1) Disseminate effective models for other States to adopt, and (2) plan next steps for assisting States to improve the quality of adult education services so that more adults become “college ready” and actually transition to postsecondary education.

Application Requirements and Required Project Activities

An application under this competition must propose a project that identifies, demonstrates, and documents practices that improve ASE and that facilitate the successful transition of out-of-school youth to postsecondary education. The project must—

(a) Identify, demonstrate, and document, in at least four existing local ASE programs funded under the Act, educational strategies (e.g., program design elements such as scheduling, educational counseling, supportive services for students, and professional development for staff; enhanced curricula; or linkages with postsecondary education programs) designed to improve the ability of out-of-school youth to transition to postsecondary education. The educational strategies must be authorized under the Act and must currently be utilized in the local ASE programs participating in a project under this competition. An applicant must describe in its application the criteria and process it proposes to use to identify and select educational strategies to be demonstrated;

(b) Assist the local ASE programs identified under paragraph (a) of this section to—

(1) Further develop, strengthen, enhance, or expand educational strategies in order to improve the capacity of the programs to increase the percentage of out-of-school youth who are ready for, and actually transition to, postsecondary education;

(2) Establish procedures that help the local ASE programs demonstrate, document, and gather data on educational strategies that improve ASE and facilitate the transition of out-of-school youth to postsecondary education; and

(3) Offer opportunities for out-of-school youth to participate in course work and other activities that are coordinated with, and make it easier for out-of-school youth to transition to, postsecondary institutions;

(c) Periodically communicate with the eligible agency, as defined under section 203(4) of the Act (20 U.S.C. 9202(4)), in the State in which the project will operate, regarding the planning, development, and implementation of the project;

(d) Use an independent evaluator to gather data validating whether the educational strategies demonstrated by the local ASE programs actually—

(1) Enhance learning for participating out-of-school youth;

(2) Improve ASE instruction in participating local programs;

(3) Increase the percentage of participating out-of-school youth who transition to postsecondary education; and

(4) Result in measurable college readiness of out-of-school youth, including by providing a description of the standard the project used to define college readiness;

(e) Package, for dissemination, a description of the educational practices demonstrated to be effective by the project, including by documenting, to the extent possible, the effectiveness of the educational practices in improving ASE and facilitating the transition of out-of-school youth to postsecondary education;

(f) Be coordinated with similar or related efforts, and with other appropriate community, State, and Federal resources in order to increase the likelihood that the project will result in system change or improvement; and

(g) At the conclusion of the project, propose the next steps that educators and researchers should under take to further validate the effectiveness of the educational strategies demonstrated in the project.

Priority: We are establishing this priority for the FY 2006 grant competition and any subsequent year in which we make awards from the list of unfunded applicants from this competition, in accordance with section 437(d)(1) of the General Education Provisions Act (GEPA), 20 U.S.C. 1232(d)(1).

Competitive Preference Priority: This priority is a competitive preference priority. Under 34 CFR 75.105(c)(2)(i), we award up to an additional 20 points to an application, depending on how well the application meets the priority. The points awarded under this priority are in addition to any points the application earns under the selection criteria for this competition, provided elsewhere in this notice.

The priority is:

Involvement of an Eligible Agency

Projects for which the eligible agency, as defined under section 203(4) of the Act (20 U.S.C. 9202(4)), in the State in which the project will operate is actively involved in the project (i.e., has a clearly defined leadership role in planning, developing, and implementing the proposed demonstration project) as evidenced by clearly delineated responsibilities that are described in the application and by a letter from the eligible agency committing to carry out the agreed upon responsibilities.

Note: The definitions in section 203 of the Act apply to this competition. (20 U.S.C. 9202).

Waiver of Proposed Rulemaking: Under the Administrative Procedure Act (5 U.S.C. 553), the Department generally offers interested parties the opportunity to comment on proposed non-statutory requirements, priorities, and selection criteria. Section 437(d)(1) of GEPA, however, allows the Secretary to exempt from rulemaking requirements non-statutory requirements, priorities, and selection criteria governing the first grant competition under a new or substantially revised program authority. This is the first grant competition under section 243 of the Act and, therefore, qualifies for this exemption. In order to ensure timely grant awards, the Secretary has decided to forgo public comment on the non-statutory requirements, priority, and selection criteria under the authority of section 437(d)(1) of GEPA. The non-statutory requirements, priority, and selection criteria set forth in this notice will apply to the FY 2006 competition and any subsequent year in which we make awards from the list of unfunded applications from this competition.

Program Authority: 20 U.S.C. 9253.

Applicable Regulations: The Education Department General.

Administrative Regulations: (EDGAR) in 34 CFR parts 74, 75, 77, 79, 80, 81, 82, 84, 85, 86, 97, 98, 99.

Note: The regulations in 34 CFR part 79 apply to all applicants except federally recognized Indian tribes.

Note: The regulations in 34 CFR part 86 apply to the institutions of higher education only.

II. Award Information

Type of Award: Discretionary grants.

Estimated Available Funds: $2,000,000.

Estimated Range of Awards: $500,000 to $1,000,000.

Estimated Average Size of Awards: $750,000.

Estimated Number of Awards: 2 to 4.

Note: The Department is not bound by any estimates in this notice.

Project Period: Up to 24 months.

III. Eligibility Information

1. Eligible Applicants: The following entities are eligible for a grant:

(a) A State educational agency.

(b) A local educational agency.

(c) A postsecondary educational institution.

(d) Other public or private agencies, organizations, and institutions.

(e) A consortium of eligible applicants. Eligible applicants seeking to apply as a consortium must comply with the regulations in 34 CFR 75.127-75.129, which address group applications.

2. Cost Sharing or Matching: This program does not require cost sharing or matching.

IV. Application and Submission Information

1. Address to Request Application Package: Karen Lee, U.S. Department of Education, 400 Maryland Avenue, SW., room 11047, Potomac Center Plaza, Washington, DC 20202-7240. Telephone: (202) 245-7720 or by e-mail: karen.lee@ed.gov.

If you use a telecommunications device for the deaf (TDD), call the Federal Relay Service (FRS), toll free, at 1-800-877-8339.

Individuals with disabilities can obtain a copy of the application package in an alternative format (e.g., Braille, large print, audiotape, or computer diskette) by contacting the program contact person listed in this section.

2. Content and Form of Application Submission: Requirements concerning the content of an application, together with the forms you must submit, are in the application package for this competition.

Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail should include only the applicant's intent to submit an application; it does not need to include information regarding the content of the proposed application. This e-mail notification should be sent 10 days after the publication of this notice to Diane DeMaio at: diane.demaio@ed.gov.

We will consider an application submitted by the deadline date for transmittal of applications even if the applicant did not provide notice of its intent to apply.

Page Limit: The application narrative (Part III of the application) is where you, the applicant, address the selection criteria that reviewers use to evaluate your application. You must limit Part III to the equivalent of no more than 25 pages, using the following standards:

• A “page” is 8.5 x 11, on one side only, with 1″ margins at the top, bottom, and both sides.

• Double space (no more than three lines per vertical inch) all text in the application narrative, including titles, headings, footnotes, quotations, references, and captions, as well as all text in charts, tables, figures, and graphs.

• Use a font that is 12 point, double-spaced.

The page limit does not apply to Part I, the cover sheet; Part II, the budget section, including the narrative budget justification; Part IV, the assurances and certifications; or the one page abstract, the resumes, or the letters of support. However, the page limit does apply to all of the application narrative section (Part III).

We will reject your application if:

• You apply these standards and exceed the page limit; or

• You apply other standards and exceed the equivalent of the page limit.

3. Submission Dates and Times:

Applications Available: July 27, 2007.

Deadline for Notice of Intent to Apply: August 6, 2007.

Deadline for Transmittal of Applications: August 27, 2007.

Applications for grants under this competition may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with disability in connection with the application process, the individual's application remains subject to all other requirements and limitations in this notice.

Deadline for Intergovernmental Review: August 27, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this competition may be submitted electronically or in paper format by mail or hand delivery.

a. Electronic Submission of Applications.

To comply with the President's Management Agenda, we are participating as a partner in the Governmentwide Grants.gov Apply site. Ready for College: Adult Education Transitions, CFDA Number 84.191A, is included in this project. We request your participation in Grants.gov. If you choose to submit your application electronically, you must use the Governmentwide Grants.gov Apply site at http://www.Grants.gov. Through this site, you will be able to download a copy of the application package, complete it offline, and then upload and submit your application. You may not e-mail an electronic copy of a grant application to us.

You may access the electronic grant application for the Ready for College: Adult Education Transitions Program at http://www.Grants.gov. You must search for the downloadable application package for this program by the CFDA number. Do not include the CFDA number's alpha suffix in your search (e.g., search for 84.191, not 84.191A).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve an application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf. You also must provide on your application the same D-U-N-S Number used with this registration. Please note that the registration process may take five or more business days to complete, and you must have completed all registration steps to allow you to submit successfully an application via Grants.gov. In addition, you will need to update the CCR registration on an annual basis. This may take three or more business days to complete.

• You will not receive additional point value because you submit your application in electronic format, nor will we penalize you, if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental information for SF 424—have replaced the ED 424 (Application for Federal Education Assistance).

• If you submit your application electronically, you must attach any narrative sections of your application as files in a .DOC (document), .RTF (rich text), or .PDF (Portable Document) format. If you upload a file type other than the three file types specified in this paragraph, or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting the application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.191A), 400 Maryland Avenue, SW., Washington, DC 20202-4260; or

By mail through a commercial carrier: U.S. Department of Education, Application Control Center, Stop 4260, Attention: (CFDA Number 84.191A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.191A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The Secretary uses the following program criteria to evaluate an application. The maximum score for each criterion is indicated in parentheses. The maximum score for all of these criteria is 110 points.

(a) Significance. (20 points) In determining the significance of the proposed project, the Secretary considers the following factors:

(1) The extent to which—

(i) The proposed project will identify, demonstrate, and document, in at least four existing local ASE programs funded under the Act, educational strategies (e.g., program design elements such as scheduling, educational counseling, supportive services for students, and professional development for staff; enhanced curricula; or linkages with postsecondary education programs) designed to improve the ability of out-of-school youth to transition to postsecondary education. The educational strategies must be authorized under the Act and must currently be utilized in the local ASE programs participating in a project under this competition;

(ii) The applicant describes the criteria and process it proposes to use to identify and select educational strategies to be demonstrated; and

(iii) The proposed project will assist the local ASE programs to—

(A) Further develop, strengthen, enhance, or expand educational strategies in order to improve the capacity of the programs to increase the percentage of out-of-school youth who are ready for, and actually transition to, postsecondary education;

(B) Establish procedures that help the local ASE programs demonstrate, document, and gather data on educational strategies that improve ASE and facilitate the transition of out-of-school youth to postsecondary education; and

(C) Offer opportunities for out-of-school youth to participate in course work and other activities that are coordinated with, and make it easier for out-of-school youth to transition to, postsecondary institutions.

(2) The extent to which specific gaps or weaknesses in ASE curricula or program designs have been identified and will be addressed by the proposed project, including the nature and magnitude of those gaps or weaknesses.

(b) Quality of the project design. (45 points) In determining the quality of the design of the proposed project, the Secretary considers the following factors:

(1) The extent to which clearly specified and measurable goals, objectives, and outcomes to be achieved by the proposed project are aligned with the activities described in the Application Requirements and Required Project Activities section in this notice.

(2) The extent to which the design of the proposed project reflects up-to-date knowledge from research and effective practices.

(3) The extent to which the applicant describes effective strategies to—

(i) Improve program completion rates;

(ii) Increase the percentage of out-of-school youth who obtain a General Educational Development or high school equivalency credential;

(iii) Increase the percentage of out-of-school youth who demonstrate college readiness; and

(iv) Increase the percentage of out-of-school youth who successfully transition to postsecondary education.

(4) The extent to which the proposed project will periodically communicate with the eligible agency, as defined under section 203(4) of the Act (20 U.S.C. 9202(4)), in the State in which the project will operate, regarding the planning, development, and implementation the project.

(5) The extent to which the design will result in replicable educational strategies that can be packaged for dissemination nationally.

(6) The extent to which the proposed project will package, for dissemination, a description of the educational practices demonstrated to be effective by the project, including by documenting, to the extent possible, the effectiveness of the educational practices in improving ASE and facilitating the transition of out-of-school youth to postsecondary education.

(7) The extent to which the proposed project will be coordinated with similar or related efforts, and with other appropriate community, State, and Federal resources in order to increase the likelihood that the project will result in system change or improvement.

(8) The extent to which, at the conclusion of the proposed project, the project will propose the next steps that educators and researchers should undertake to further validate the effectiveness of the educational strategies demonstrated in the project.

(c) Quality of project personnel. (5 Points) In determining the quality of project personnel, the Secretary considers the following factors:

(1) The extent to which the applicant encourages applications for employment from persons who are members of groups that traditionally have been underrepresented based on race, color, national origin, gender, age, or disability.

(2) The extent to which the qualifications, including relevant training and experience, of the project director, key personnel, and subcontractors match the requirements of the project.

(d) Quality of the management plan. (20 points) In determining the quality of the management plan for the proposed project, the Secretary considers the following factors:

(1) The extent to which the management plan is designed to achieve the objectives of the proposed project on time and within budget, including clearly defined responsibilities, timelines, and milestones for accomplishing project tasks.

(2) The extent to which the time commitments of the project director and other key project personnel are appropriate and adequate to meet the objectives of the proposed project.

(3) The adequacy of procedures for ensuring feedback and continuous improvement in the operation of the proposed project.

(e) Quality of the project evaluation. (20 points) In determining the quality of the evaluation, the Secretary considers the following factors:

(1) The extent to which the methods of evaluation are thorough, feasible, and appropriate to the goals, objectives, and outcomes of the proposed project.

(2) The extent to which the methods of evaluation include the use of objective performance measures that are clearly related to the intended outcomes of the project and to the performance measures discussed in Section VI. 4. Performance Measures in this notice and the extent to which the methods of evaluation will produce valid and reliable quantitative and qualitative data.

(3) The extent to which the methods of evaluation provide a coordinated strategy for examining the effectiveness of project implementation strategies across multiple programs within a State.

(4) The extent to which the methods of evaluation will provide performance feedback.

(5) The extent to which the proposed project will use an independent evaluator to gather data validating whether the educational strategies demonstrated by the local ASE programs actually—

(i) Enhance learning for participating out-of-school youth;

(ii) Improve ASE instruction in participating local programs;

(iii) Increase the percentage of participating out-of-school youth who transition to postsecondary education; and

(iv) Result in measurable college readiness of out-of-school youth, including by providing a description of the standard the project used to define college readiness.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates the approved application as part of the binding commitments under the grant.

3. Reporting. (a) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

(b) In addition, grantees under this competition must submit—

(1) An interim report six months after the grant is awarded;

(2) An evaluation report that—

(i) Reports on the effectiveness of the project;

(ii) Reports on the effectiveness of practices demonstrated during the project, including whether educational strategies actually—

(A) Enhanced learning for out-of-school youth;

(B) Improved ASE programs;

(C) Improved States' capacity to increase the percentage of out-of-school youth who transition to postsecondary education; and

(D) Resulted in, or contributed to, measurable college readiness of out-of-school youth, including by providing a description of the standard the project used to define college readiness;

(iii) Contains recommendations on how to further evaluate the effectiveness of practices demonstrated during the project; and

(iv) Reports on the percentage of out-of-school youth enrolled in the project who were retained during the project period and who demonstrated measurable college readiness; and

(3) An annual report on the GPRA measures identified in the Performance Measures section of this notice.

4. Performance Measures: Under the Government Performance Results Act of 1993, Federal departments and agencies must clearly describe the goals and objectives of programs, identify resources and actions needed to accomplish goals and objectives, develop a means of measuring progress made, and regularly report on achievement. One important source of program information on successes and lessons learned is the project evaluation conducted under individual grants. In evaluating the overall effectiveness of projects funded under this competition, grantees must also be prepared to measure and report on the following measures of effectiveness:

a. The percentage of out-of-school youth served by the project whose goal is to complete high school, and who earn a high school diploma or recognized equivalent.

b. The percentage of out-of-school youth served by the project whose goal is to enter postsecondary education and who enroll in a postsecondary education program.

c. The percentage of out-of-school youth served by the project who demonstrate measurable college readiness.

d. The percentage of out-of-school youth served by the project who demonstrate improved literacy and mathematics skills using pre- and post-tests that are approved for use in the National Reporting System for Adult Education and that are identified in the assessment policy of the State in which the project will operate.

VII. Agency Contacts

For Further Information Contact: Diane DeMaio or Ursula Lord, U.S. Department of Education, 400 Maryland Avenue, SW., room 11002, Potomac Center Plaza, Washington, DC 20202-6121. Telephone: (202) 245-7841 or (202) 245-7734, respectively, or by e-mail: diane.demaio@ed.gov or ursula.lord@ed.gov.

If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: July 24, 2007.
Troy R. Justesen,
Assistant Secretary for Vocational and Adult Education.

[FR Doc. E7-14539 Filed 7-26-07; 8:45 am]

BILLING CODE 4000-01-P